DEPARTMENT OF COMMERCE

National Oceanic and Atmospheric Administration

RIN 0648-XA881

Endangered Species; File Nos. 16229 and 16548

AGENCY: National Marine Fisheries Service (NMFS), National Oceanic and Atmospheric Administration (NOAA), Commerce.

ACTION: Issuance of permits.

SUMMARY: Notice is hereby given that the North Carolina Zoo, 4401 Zoo Parkway, Asheboro, NC 27203 [David Jones, Responsible Party], and the Springfield Science Museum, 21 Edwards Street Springfield, MA 01103 [David J. Stier, Responsible Party] have been issued permits to take shortnose sturgeon for purposes of enhancement.

ADDRESSES: The permit and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive Gloucester, MA 01930; phone (978) 281-9328; fax (978) 281-9394; and

Southeast Region, NMFS, 263 13th Avenue South, Saint Petersburg, FL 33701; phone (727) 824-5312; fax (727) 824-5309.

FOR FURTHER INFORMATION CONTACT: Jennifer Skidmore and Colette Cairns, (301) 427-8401.

SUPPLEMENTARY INFORMATION: On July 11, 2011 and August 19, 2011, notices were published in the Federal Register (76 FR 51945 and 76 FR 40699) that requests for enhancement permits to take shortnose sturgeon had been submitted by the above-named organizations. The requested permits have been issued under the authority of the Endangered Species Act of 1973, as amended (ESA; 16 U.S.C. 1531 et seq.) and the regulations governing the taking, importing, and exporting of endangered and threatened species (50 CFR parts 222-226).

The North Carolina Zoo and the Springfield Science Museum have been issued permits to continue enhancement activities previously authorized under Permit Nos. 1545 and 1555, respectively. Activities include the continued maintenance, transport and educational display of captive-bred, non-releaseable adult shortnose sturgeon. The permits do not authorize any takes from the wild, nor do they authorize any release of captive sturgeon into the wild. These permits are valid for a duration of 5 years.

Issuance of the permits, as required by the ESA, was based on a finding that such permits (1) were applied for in good faith, (2) will not operate to the disadvantage of such endangered or threatened species, and (3) are consistent with the purposes and policies set forth in section 2 of the ESA.

Dated: January 3, 2012.
P. Michael Payne,
Chief, Permits and Conservation Division, Office of Protected Resources, National Marine Fisheries Service.

[FR Doc. 2012-151 Filed 1-6-12; 8:45 am]

BILLING CODE 3510-22-P